DEPARTMENT OF HEALTH AND HUMAN SERVICES

Centers for Medicare & Medicaid Services

[Document Identifier: CMS-10448]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by March 8, 2024.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Essential Health Benefits Benchmark Plans; Use: On March 23, 2010, the Patient Protection and Affordable Care Act (PPACA; Pub. L. 111-148) was signed into law, and on March 30, 2010, the Health Care and Education Reconciliation Act of 2010 (Pub. L. 111-152) was signed into law. The two laws implement various health insurance policies, including the essential health benefits (EHB). Beginning in 2014, all non-grandfathered health plans in the individual and small group market must cover EHB, as defined by the Secretary of Health and Human Services.

In the final rule entitled HHS Notice of Benefit and Payment Parameters for 2023 (2023 Payment Notice; CMS-9911-F),² we repealed the ability for States to permit between category substitution of the EHBs at 45 CFR 156.115. Thus, we revise this Supporting Statement to remove any burden associated with States opting to permit between category substitution of the EHBs and remove the form Essential Health Benefits (EHB) State Substitution Notification (Appendix F) from this collection.

For annual reporting of state mandates, in the final rule entitled HHS Notice of Benefit and Payment Parameters for 2021 (2021 Payment Notice; CMS-9916-F),³ we finalized amendments to § 156.111(d) and adding new § 156.111(f) to require states to annually notify HHS in a format and manner specified by HHS, and by a date determined by HHS, of any state-required benefits applicable to QHPs in the individual and/or small group market that are considered to be “in addition to EHB” in accordance with § 155.170(a)(3).

In the final rule entitled HHS Notice of Benefit and Payment Parameters for 2023 (2023 Payment Notice; CMS-9911-F), we repealed the annual reporting requirement at § 156.111(d) and (f), including revising the section heading to § 156.111 to instead read, “State selection of EHB benchmark plan for PYs beginning on or after January 1, 2020.” Thus, we have revised this Supporting Statement to reflect that States are no longer required to annually notify HHS of any State-required benefits applicable to QHPs in the individual or small group market that are considered to be “in addition to EHB” or any benefits the State has identified as not in addition to EHB and not subject to defrayal. We also remove the forms State Annual Report on State-Required Benefits (Appendix G) and State Certification of Annual Report on State-Required Benefits (Appendix H) from this collection.

This information collection also previously included estimates for the burden on issuers to report their intent to offer SADPs. We no longer collect this information from issuers; we revise this Supporting Statement to remove the burden associated with this report. In this package, we make minimum required revisions to reflect only the regulatory changes that have occurred since it was last authorized in 2021. No comments were received in response to the 60-day FR Notice (September 27, 2023 (88 FR 66452). Form Number: CMS-10448 (OMB control number: 0938-1174); Frequency: Annually; Affected Public: State, Local, or Tribal Governments; Number of Respondents: 10; Number of Responses: 10; Total Annual Hours: 470. (For questions regarding this collection, contact Ken Buerger at 410-786-1190).

William N. Parham, III,
Director, Division of Information Collections and Regulatory Impacts, Office of Strategic Operations and Regulatory Affairs.

[FR Doc. 2024-02445 Filed 2-6-24; 8:45 am]

BILLING CODE 4120-01-P